DEPARTMENT OF ENERGY

Federal Energy Regulatory Commission

Combined Notice of Filings #2

Take notice that the Commission received the following electric rate filings:

Docket Numbers: ER16-471-002.

Applicants: Midcontinent Independent System Operator, Inc., Merricourt Power Partners LLC.

Description: Pre-Arranged/Pre-Agreed (Settlement and Settlement Agreement) Filing of the Midcontinent Independent System Operator, Inc., et al.

Filed Date: 10/11/18.

Accession Number: 20181011-5180.

Comments Due: 5 p.m. ET 11/1/18.

Docket Numbers: ER18-2194-001.

Applicants: Fox Creek Farm Solar, LLC.

Description: Tariff Amendment: Amendment to 1 to be effective 10/23/2018.

Filed Date: 10/12/18.

Accession Number: 20181012-5141.

Comments Due: 5 p.m. ET 11/2/18.

Docket Numbers: ER19-98-000.

Applicants: Midcontinent Independent System Operator, Inc.

Description: § 205(d) Rate Filing: 2018-10-12_Filing to revise Attachment WW to be effective 12/12/2018.

Filed Date: 10/12/18.

Accession Number: 20181012-5084.

Comments Due: 5 p.m. ET 11/2/18.

Docket Numbers: ER19-99-000.

Applicants: PJM Interconnection, L.L.C.

Description: § 205(d) Rate Filing: Revisions to the PJM OATT to reflect AMPT as a Transmission Own to be effective 12/14/2018.

Filed Date: 10/12/18.

Accession Number: 20181012-5086.

Comments Due: 5 p.m. ET 11/2/18.

Docket Numbers: ER19-100-000.

Applicants: PJM Interconnection, L.L.C.

Description: § 205(d) Rate Filing: Revisions to the CTOA Attachment A to reflect AMPT as a new Transmission Owner to be effective 12/14/2018.

Filed Date: 10/12/18.

Accession Number: 20181012-5087.

Comments Due: 5 p.m. ET 11/2/18.

Docket Numbers: ER19-101-000.

Applicants: R-WS Antelope Valley Gen-Tie, LLC.

Description: § 205(d) Rate Filing: Certificate of Concurrence for Shared Facilities Agreement to be effective 10/14/2018.

Filed Date: 10/12/18.

Accession Number: 20181012-5088.

Comments Due: 5 p.m. ET 11/2/18.

Docket Numbers: ER19-102-000.

Applicants: Luminant Energy Company LLC.

Description: Baseline eTariff Filing: Market-Based Rate Application to be effective 10/13/2018.

Filed Date: 10/12/18.

Accession Number: 20181012-5142.

Comments Due: 5 p.m. ET 11/2/18.

Docket Numbers: ER19-103-000.

Applicants: Wisconsin Electric Power Company.

Description: § 205(d) Rate Filing: WEPCo Formula Rate Tariff Filing to be effective 12/11/2018.

Filed Date: 10/12/18.

Accession Number: 20181012-5151.

Comments Due: 5 p.m. ET 11/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2018.
Nathaniel J. Davis, Sr.,
Deputy Secretary.

[FR Doc. 2018-22714 Filed 10-17-18; 8:45 am]

BILLING CODE 6717-01-P